ENVIRONMENTAL PROTECTION AGENCY

[EPA-HQ-OAR-2011-0901; FRL-9608-7]

Agency Information Collection Activities; Proposed Collections; Comment Request; Prevention of Significant Deterioration and Nonattainment Area New Source Review (Renewal)

AGENCY: Environmental Protection Agency (EPA).

ACTION: Withdrawal of notice.

SUMMARY: The EPA announces the withdrawal of the notice titled, “Agency Information Collection Activities; Proposed Collections; Comment Request; Prevention of Significant Deterioration and Nonattainment Area New Source Review (Renewal)” published on December 7, 2011. The December 7, 2011, notice is a duplicate to the notice published on November 25, 2011. The November 25, 2011, notice announced in compliance with the Paperwork Reduction Act (PRA) (44 U.S.C. 3501 et seq.) that the EPA is planning to submit a request to renew an existing approved Information Collection Request (ICR) to the Office of Management and Budget (OMB). This ICR is scheduled to expire on April 30, 2012. Before submitting this ICR to OMB for review and approval, the EPA is soliciting comments on specific aspects of the proposed information collection through the notice pulished on November 25, 2011.

FOR FURTHER INFORMATION CONTACT: Ms. Pamela Long, Air Quality Policy Division, Office of Air Quality Planning and Standards (C504-01), Environmental Protection Agency, Research Triangle Park, North Carolina 27711; telephone number: (919) 541-0641; fax number: (919) 541-5509; email address: long.pam@epa.gov.

SUPPLEMENTARY INFORMATION:

I. General Information

A. Does this action apply to me?

This action is directed to the public in general. If you have any questions regarding the withdrawal of the December 7, 2011, notice, consult the person listed under FOR FURTHER INFORMATION CONTACT.

B. How can I get copies of this document and other related information?

The EPA has established a public docket for the ICR renewal Docket ID No. EPA-HQ-OAR-2011-0901, which is available for online viewing at www.regulations.gov, or in person viewing at the Air and Radiation Docket in the EPA Docket Center (EPA/DC), EPA West, Room 3334, 1301 Constitution Ave. NW., Washington, DC The EPA/DC Public Reading Room is open from 8:30 a.m. to 4:30 p.m., Monday through Friday, excluding legal holidays. The telephone number for the Public Reading Room is (202) 566-1744.

Use www.regulations.gov to obtain a copy of the draft collection of information, submit or view public comments, access the index listing of the contents of the docket and access those documents in the public docket that are available electronically. Once in the system, select “search,” then key in the docket ID number identified in this document.

II. Withdrawn Document

The EPA is withdrawing the notice titled, Agency Information Collection Activities; Proposed Collections; Comment Request; Prevention of Significant Deterioration and Nonattainment Area New Source Review (Renewal)” published on December 8, 2011 in the Federal Register at 76 FR 76713. This notice was a duplicate to the notice published in the Federal Register on November 25, 2011 at 76 FR 72700. Comments remain due on or before January 24, 2012.

Dated: December 13, 2011.
Jennifer Noonan Edmonds,
Acting Director, Office of Air Quality Planning and Standards.

[FR Doc. 2011-32571 Filed 12-19-11; 8:45 am]

BILLING CODE 6560-50-P